DEPARTMENT OF DEFENSE

Department of the Army, Corps of Engineers

Intent To Prepare a Draft Environmental Impact Statement for a Proposed Flood Risk Management Project on the Red River of the North in Fargo, ND & Moorhead, MN

AGENCY: Department of the Army, U.S. Army Corps of Engineers, DoD.

ACTION: Notice of intent.

SUMMARY: The St. Paul District Corps of Engineers, in partnership with the City of Fargo, North Dakota and City of Moorhead, Minnesota is conducting a flood risk management feasibility study for the Fargo-Moorhead metropolitan area. The feasibility study will focus on reducing flood risk in the entire Fargo-Moorhead Metropolitan area and surrounding areas. The study will evaluate several alternative measures, including but not limited to; levees and floodwalls, diversion channels, non-structural flood-proofing, relocation of flood-prone structures, and flood storage.

FOR FURTHER INFORMATION CONTACT: Questions about the proposed action and Draft Environmental Impact Statement (DEIS) can be directed to: Mr. Terry J. Birkenstock, Chief, Environmental and Economic Analysis Branch, 190 Fifth Street East, St. Paul, MN 55101-1638, telephone: (651) 290-5264.

SUPPLEMENTARY INFORMATION: Fargo, North Dakota, and Moorhead, Minnesota, are on the west and east banks, respectively, of the Red River of the North approximately 150 miles south of the Canada/United States border. In addition to the Red River, the Wild Rice, Sheyenne, Maple and Rush Rivers in North Dakota and the Buffalo River in Minnesota also cross the study area.

The purpose of this study is to collect and evaluate pertinent engineering, economic, social, and environmental information in order to assess the potential for a federal flood risk management project in the Fargo-Moorhead Metropolitan Area. The study objective is to define a feasible and implementable project to reduce flood risk in the study area. The Fargo-Moorhead metropolitan area has a relatively high risk of flooding. The highest river stages usually occur as a result of spring snowmelt, but summer rainfall events have also caused significant flood damages. The Red River of the North has exceeded the National Weather Service flood stage of 17 feet in 51 of the past 107 years, and every year from 1993 through 2009. The study area is between the Wild Rice River, the Sheyenne River, and the Red River of the North; interbasin flows complicate the hydrology of the region and contribute to extensive flooding. Average annual flood damages in the Fargo-Moorhead metropolitan area are currently estimated at over $43 million.

Fargo and Moorhead have become accustomed to dealing with flooding. Sufficient time is usually available to prepare for flood fighting because winter snowfall can be monitored to predict unusual spring runoff. Both communities have well documented standard operating procedures for flood fights. Both communities avoided major flood damages in the historic flood of 1997 by either raising existing levees or building temporary barriers. Since the 1997 flood, both communities have implemented mitigation measures, including acquisition of almost 100 floodplain homes, raising and stabilizing existing levees, installing permanent pump stations, and improving storm sewer lift stations and the sanitary sewer system. Although emergency measures have been very successful, they may also contribute to an unwarranted sense of security that does not reflect the true flood risk in the area.

The Fargo-Moorhead Metro Feasibility Study and its associated NEPA documentation will be prepared by the Corps and the cities of Fargo, North Dakota and Moorhead, Minnesota. The Corps will act as the lead agency and the cities will act as cooperating partners.

The study will evaluate several alternative measures, including but not limited to: levees and floodwalls along the river through the towns, diversion channels either west or east of the Fargo-Moorhead Metro area, non-structural flood-proofing, relocation of flood-prone structures, and flood storage.

Significant resources and issues to be addressed in the DEIS will be determined through coordination with Federal agencies, State agencies, local governments, the general public, interested private organizations, and industry. Anyone who has an interest in participating in the development of the DEIS is invited to contact the St. Paul District, Corps of Engineers.

To date, the following areas of discussion have been identified for inclusion in the DEIS:

1. Flood damage reduction.

2. Fish and wildlife.

3. Land-use Effects (effects on agricultural land).

4. Archeological, cultural, and historic resources.

5. Social Effects.

6. Groundwater (Buffalo Aquifer).

Additional areas of interest may be identified through the scoping process, which will include public and agency meetings. A notice of those meetings will be provided to interested parties and to local news media.

The first scoping meeting will be held May 19 at Centennial Hall in Fargo, North Dakota and May 20th at the Hanson Theater on the Minnesota State University, Moorhead campus in Moorhead, Minnesota. Both meetings will begin at 5:30 for open house followed by presentation and questions and answers at 7.

An environmental review will be conducted under the NEPA of 1969 and other applicable laws and regulations. It is anticipated that the DEIS will be available for public review in the winter of 2009-2010.

Dated: April 22, 2009.
Terry J. Birkenstock,
Chief, Environmental and Economic Analysis Branch.

[FR Doc. E9-10309 Filed 5-4-09; 8:45 am]

BILLING CODE 3720-58-P